DEPARTMENT OF TRANSPORTATION

Federal Aviation Administration

14 CFR Part 39

[Docket No. 2001-NM-240-AD; Amendment 39-13301; AD 2003-18-10]

RIN 2120-AA64

Airworthiness Directives; Boeing Model 767-200, -300, -300F, and -400ER Series Airplanes

AGENCY: Federal Aviation Administration, DOT.

ACTION: Final rule.

SUMMARY: This amendment supersedes an existing airworthiness directive (AD), applicable to certain Boeing Model 767 series airplanes, that currently requires revising the Airworthiness Limitations Section of the Maintenance Planning Data (MPD) Document (767 Airworthiness Limitations Instructions (ALI)). The revision incorporates into the ALI certain inspections and compliance times to detect fatigue cracking of principal structural elements (PSE). This amendment expands the applicability in the existing AD, and requires incorporating a new revision into the Airworthiness Limitations Section of the MPD Document. The actions specified by this AD are intended to ensure that fatigue cracking of various PSEs is detected and corrected; such fatigue cracking could adversely affect the structural integrity of these airplanes. This action is intended to address the identified unsafe condition.

DATES: Effective October 16, 2003.

The incorporation by reference of Appendix B of Boeing 767 Maintenance Planning Data Document D622T001, Revision December 2002; Subsection B, Section 9, of Boeing 767 Maintenance Planning Data Document D622T001-9, Revision June 2000; Subsection B, Section 9, of Boeing 767 Maintenance Planning Data Document D622T001-9, Revision February 2001; and Subsection B, Section 9, of Boeing 767 Maintenance Planning Data Document D622T001-9, Revision October 2002; is approved by the Director of the Federal Register as of October 16, 2003.

The incorporation by reference of Subsection B of Boeing 767 Maintenance Planning Data Document D622T001-9, Revision June 1997, as listed in the regulations, was approved previously by the Director of the Federal Register as of June 1, 2001 (66 FR 21077, April 27, 2001).

ADDRESSES: The service information referenced in this AD may be obtained from Boeing Commercial Airplane Group, P.O. Box 3707, Seattle, Washington 98124-2207. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Suzanne Masterson, Aerospace Engineer, Airframe Branch, ANM-120S, FAA, Seattle Aircraft Certification Office, 1601 Lind Avenue, SW., Renton, Washington 98055-4056; telephone (425) 917-6441; fax (425) 917-6590.

SUPPLEMENTARY INFORMATION: A proposal to amend part 39 of the Federal Aviation Regulations (14 CFR part 39) by superseding AD 2001-08-28, amendment 39-12205 (66 FR 21077, April 27, 2001), which is applicable to certain Boeing Model 767 series airplanes, was published in the Federal Register on March 3, 2003 (68 FR 9951). The action proposed to continue to require revising the Airworthiness Limitations Section of the Maintenance Planning Data (MPD) Document (767 Airworthiness Limitations Instructions (ALI)). The revision incorporates into the ALI certain inspections and compliance times to detect fatigue cracking of principal structural elements (PSE). The action also proposed to expand the applicability in the existing AD, and incorporate a new revision into the Airworthiness Limitations Section of the MPD Document.

Comments

Interested persons have been afforded an opportunity to participate in the making of this amendment. Due consideration has been given to the comments received.

One commenter has no issues with the proposed AD and is in the process of incorporating the actions into its Model 767 maintenance program.

Request for Certain Clarification of Certain Paragraphs

One commenter notes that the requirements of AD 2001-08-28 are restated in paragraphs (a) and (b) of the proposed AD, and the new requirements are stated in paragraphs (c) and (d) of the proposed AD. The commenter states that, since the intent of the proposed AD is for operators to incorporate the new requirements, paragraphs (c) and (d) should be clarified to specify that accomplishment of those paragraphs terminates the requirements specified in paragraphs (a) and (b). We agree with the commenter; however, paragraph (b) merely specifies that no alternative inspections or inspection intervals shall be approved unless an alternative method of compliance (AMOC) is approved, it does not contain any requirements. Therefore, paragraph (c) of this final rule has been changed for clarification to include the statement that accomplishment of paragraph (c) terminates the requirements in paragraph (a) of this AD.

Another commenter asks that paragraph (c) of the proposed AD be changed to clarify that Appendix B is part of Boeing Document D622T001, not D622T001-9. The commenter states that the current wording incorrectly specifies that Appendix B is part of Boeing Document D622T001-9. We agree with the commenter and have changed paragraph (c) of this final rule for clarification.

Request To Delete Paragraph (e)(3)

One commenter states that there has been no change to any airworthiness limitation inspection in the June 2000 revision of the MPD, so that revision is still a valid AMOC for the new requirements specified in the proposed AD. Therefore, the commenter suggests that paragraph (e)(3) of the proposed AD; which specifies that the procedures in Subsection B of Boeing Document D622T001-9, Revision June 2000, are not approved as AMOCs with paragraph (d) of this AD; be deleted.

We agree with the commenter. We have reviewed Revisions June 2000, February 2001, and October 2002, and find the only change to Subsection B, Section 9, is the language describing the requirement to reduce inspection intervals to match those in Section 8, once the inspection threshold is reached. All revisions contain the same inspections and are acceptable to use for accomplishment of the actions required. Therefore, we have deleted paragraph (e)(3) of this final rule, as well as the reference to paragraph (e)(3) that was specified in paragraph (e)(2) of the proposed AD.

Request To Change Applicability

One commenter, the manufacturer, asks that the Model 767-400 series be removed from the applicability specified in the proposed AD. The commenter states that the Model 767-400 is not an “official” type-certificated minor model, and the type certificate data sheet (TCDS) lists only the Model 767-400ER series. We agree with the commenter; as the TCDS specifies only the Model 767-400ER series, we have removed all references to the Model 767-400 series from this final rule accordingly.

Request To Change Compliance Time

One commenter states that the compliance time in the existing AD was three years from June 1, 2001, as specified in paragraph (a) of the proposed AD, whereas the compliance time in the new requirements, as specified in paragraph (c) of the proposed AD, is within 18 months after the effective date of the AD. The commenter asks that the compliance time for paragraphs (a) and (c) of the proposed AD be changed to allow one of two options. Option 1—The compliance time should be three years from the release date of the AD. Option 2—The compliance time should be three years from the release date of the AD for airplanes having line numbers 670 through 895 inclusive, and 18 months from the release date of the AD for airplanes having line numbers 1 through 669 inclusive. The commenter states that this will give operators more flexibility, while retaining the intent of the existing AD.

We do not agree with the commenter. The commenter provides no technical justification for changing the compliance time as requested. A compliance time of 18 months, rather than 3 years, for incorporating the latest revision of Subsection B, Section 9, of Boeing MPD Document D622T001-9 will ensure the continued safety of aging airplanes. In developing an appropriate compliance time for the actions required by this AD, the FAA considered not only the safety issues, but the manufacturer's recommendations, parts availability, and the practical aspect of accomplishing the required actions within an interval paralleling normal scheduled maintenance for the majority of affected operators. In light of all of these factors, the FAA considers 18 months an appropriate compliance time wherein safety will not be adversely affected. No change to the final rule is necessary in this regard.

Request To Remove New Revisions to MPD

One commenter asks that Revisions June 2000, February 2001, and October 2002 to Subsection B, Section 9, of Boeing Document D622T001-9 of the MPD be removed from paragraph (a) of the proposed AD. The commenter states that the existing AD only referenced Revision June 1997, and did not include the other revision levels specified in paragraph (a) of the proposed AD. The commenter adds that the other revisions may be approved as AMOCs for the existing AD.

We do not agree with the commenter. The revisions that have been added to paragraph (a) of this AD are alternate revisions that have been previously approved as AMOCs for the requirements in paragraph (a) of this AD, and are acceptable to use for accomplishment of the actions required. In addition, AMOCs have been granted for inspections of individual repairs and alterations that interfered with the inspections specified in Section 9 of Boeing MPD Document D622T001-9. The intent of paragraph (e)(2) of this final rule is to allow operators to continue to use those AMOCs for the accomplishment of the inspections in this final rule. No change to the final rule is necessary in this regard.

Changes to 14 CFR Part 39

On July 10, 2002, the FAA issued a new version of 14 CFR part 39 (67 FR 47997, July 22, 2002), which governs the FAAs airworthiness directives system. The regulation now includes material that relates to altered products, special flight permits, and AMOCs. However, for clarity and consistency in this final rule, we have retained the language of the NPRM regarding that material.

Conclusion

After careful review of the available data, including the comments noted above, the FAA has determined that air safety and the public interest require the adoption of the rule with the changes previously described. The FAA has determined that these changes will neither increase the economic burden on any operator nor increase the scope of the AD.

Cost Impact

There are approximately 884 airplanes of the affected design in the worldwide fleet. We estimate that 393 airplanes of U.S. registry will be affected by this AD.

The actions that are currently required by AD 2001-08-28 take approximately 1 work hour per airplane to accomplish, at an average labor rate of $60 per work hour. Based on these figures, the cost impact of the currently required actions is estimated to be $60 per airplane.

The new actions that are required by this AD action will take approximately 1 work hour per airplane to accomplish, at an average labor rate of $60 per work hour. Based on these figures, the cost impact of the new requirements of this AD on U.S. operators is estimated to be $23,580, or $60 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12205 (66 FR 21077, April 27, 2001), and by adding a new airworthiness directive (AD), amendment 39-13301, to read as follows:

2003-18-10 Boeing: Amendment 39-13301. Docket 2001-NM-240-AD. Supersedes AD 2001-08-28, Amendment 39-12205.

Applicability: Model 767-200, -300, -300F, and -400ER series airplanes having line numbers 1 through 895 inclusive, certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (e)(1) of this AD. The request should include an assessment of the effect of the modification, alteration, or repair on the unsafe condition addressed by this AD; and, if the unsafe condition has not been eliminated, the request should include specific proposed actions to address it.

Compliance: Required as indicated, unless accomplished previously.

To ensure that fatigue cracking of various principal structural elements, which could adversely affect the structural integrity of these airplanes, is detected and corrected, accomplish the following:

Restatement of Requirements of AD 2001-08-28

Revise Section 9 of the Boeing 767 Maintenance Planning Data (MPD) Document

(a) For Model 767-200 and -300 series airplanes having line numbers 1 through 669 inclusive: Within 3 years after June 1, 2001 (the effective date of AD 2001-08-28, amendment 39-12205), revise Subsection B, Section 9, of Boeing 767 MPD Document D622T001-9, entitled “Airworthiness Limitations and Certification Maintenance Requirements,” to incorporate Revision June 1997, June 2000, February 2001, or October 2002.

Note 2: The referenced Subsection B contains a requirement that cracks found during the specified inspections be reported to the Seattle Aircraft Certification Office (ACO), FAA. Information collection requirements contained in this regulation have been approved by the Office of Management and Budget under the provisions of the Paperwork Reduction Act of 1980 (44 U.S.C. 3501, et seq.) and have been assigned OMB Control Number 2120-0056.

Note 3: For the purposes of this AD, the terms principal structural elements (PSEs) as used in this AD, and structural significant items (SSIs) as used in Section 9 of Model 767 MPD Document, are considered to be interchangeable.

Alternative Inspections and Inspection Intervals

(b) Except as provided by paragraph (e)(1) of this AD: After the actions required by paragraph (a) of this AD have been accomplished, no alternative inspections or inspection intervals shall be approved for the SSIs contained in Section 9 of Boeing 767 MPD Document D622T001-9, Revision June 1997, June 2000, or February 2001.

New Requirements of This AD

Revise Section 9 of the Boeing 767 MPD

(c) For Model 767-200, -300, -300F, and -400ER series airplanes having line numbers 1 through 895 inclusive: Within 18 months after the effective date of this AD, revise Subsection B, Section 9, of Boeing 767 MPD Document D622T001-9, entitled “Airworthiness Limitations and Certification Maintenance Requirements,” to incorporate Revision October 2002; and Appendix B of Boeing 767 MPD Document D622T001, Revision December 2002. Accomplishment of this paragraph terminates the requirements in paragraph (a) of this AD.

Alternative Inspections and Inspection Intervals

(d) Except as provided by paragraph (e)(1) of this AD: After the actions required by paragraph (c) of this AD have been accomplished, no alternative inspections or inspection intervals shall be approved for the SSIs contained in Section 9 of Boeing 767 MPD Document D622T001-9, Revision October 2002.

Alternative Methods of Compliance

(e)(1) An alternative method of compliance or adjustment of the compliance time that provides an acceptable level of safety may be used if approved by the Manager, Seattle ACO. Operators shall submit their requests through an appropriate FAA Principal Maintenance Inspector, who may add comments and then send it to the Manager, Seattle ACO.

(2) Alternative methods of compliance, approved previously in accordance with AD 2001-08-28, amendment 39-12205, are approved as alternative methods of compliance with paragraphs (a) and (c) of this AD.

Note 4: Information concerning the existence of approved alternative methods of compliance with this AD, if any, may be obtained from the Seattle ACO.

Special Flight Permits

(f) Special flight permits may be issued in accordance with sections 21.197 and 21.199 of the Federal Aviation Regulations (14 CFR 21.197 and 21.199) to operate the airplane to a location where the requirements of this AD can be accomplished.

Incorporation by Reference

(g) The actions shall be done in accordance with the applicable documents listed in Table 1 of this AD, as follows:

Table 1.—Service Documents
Document | Page numbers | Revision
Appendix B of Boeing 767, Maintenance Planning Data Document D622T001 | Forward, Pages A-N | December 2002.
Subsection B of Boeing 767 Maintenance Planning Data Document D622T001-9 | List of Effective Pages, Page 9.0-5 | June 1997.
Subsection B, Section 9, of Boeing 767, Maintenance Planning Data Document D622T001-9 | List of Effective Pages, Page 9.0-6 | June 2000.
Subsection B, Section 9, of Boeing 767 Maintenance Planning Data Document D622T001-9 | List of Effective Pages, Page 9.0-6 | February 2001.
Subsection B, Section 9, of Boeing 767 Maintenance Planning Data Document D622T001-9 | List of Effective Pages, Page 9.0-7 | October 2002.

(1) The incorporation by reference of Appendix B of Boeing 767 Maintenance Planning Data Document D622T001, Revision December 2002; Subsection B, Section 9, of Boeing 767 Maintenance Planning Data Document D622T001-9, Revision June 2000; Subsection B, Section 9, of Boeing 767 Maintenance Planning Data Document D622T001-9, Revision February 2001; and Subsection B, Section 9, of Boeing 767 Maintenance Planning Data Document D622T001-9, Revision October 2002; is approved by the Director of the Federal Register in accordance with 5 U.S.C. 552(a) and 1 CFR part 51.

(2) The incorporation by reference of Subsection B of Boeing 767 Maintenance Planning Data Document D622T001-9, Revision June 1997, was approved previously by the Director of the Federal Register as of June 1, 2001 (66 FR 21077, April 27, 2001).

(3) Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(h) This amendment becomes effective on October 16, 2003.

Issued in Renton, Washington, on September 4, 2003.
Ali Bahrami,
Acting Manager, Transport Airplane Directorate, Aircraft Certification Service.

[FR Doc. 03-22990 Filed 9-10-03; 8:45 am]

BILLING CODE 4910-13-P